DEPARTMENT OF COMMERCE

Foreign-Trade Zones Board

Foreign-Trade Zone 183—Austin, Tx; Site Renumbering Notice

Foreign-Trade Zone 183 was approved by the Foreign-Trade Zones Board on December 23, 1991 (Board Order 550), and expanded on March 16, 1998 (Board Order 964), on July 10, 1998 (Board Order 994), on April 7, 1999 (Board Order 1035), on March 15, 2001 (Board Order 1143), and on January 27, 2005 (Board Order 1366).

FTZ 183 currently consists of 8 “sites” totaling some 2,818 acres in the Austin area. The current updates does not alter the physical boundaries that have previously been approved, but instead involves an administrative renumbering of the existing sites (with the exception of Sites 2, 4, 6, 7 and 8) to separate unrelated, non-contiguous sites for record-keeping purposes.

Under this revision, the site list for FTZ 183 will be as follows: Site 1 (33 acres)—Interchange w/n the Austin Enterprise Zone, located at Bolm Road and Gardner Road, Austin; Site 2 (50 acres)—Balcones Research site located in north central Austin at the intersection of Burnett Road and Longhorn Boulevard; Site 3 (449.9 acres)—Corridor Park II (Dell), Dell Way/IH 35, Round Rock; Site 4 (47 acres)—Cedar Park site, some 8 miles northwest of the Austin city limits, in Williamson County; Site 5 (100 acres)—Borroughs, Chandler Road/Cypress Boulevard, Round Rock; Site 6 (246 acres)—Georgetown site, located along I-35 and U.S. 81, south of downtown Georgetown; Site 7 (40 acres)—San Marcos site, located within the San Marcos Municipal Airport facility in eastern San Marcos, adjacent to State Highway 21, on the Hays County/Caldwell County line; Site 8 (200 acres)—MET Center industrial park located between U.S. Highway 183 South and State Highway 71 East in southeast Austin, some 5 miles northwest of the Austin Bergstrom International Airport; Site 9 (56.4 acres)—Data Products/Nature Conservancy, Montopolis Drive/East Riverside Drive, Austin; Site 10 (22.6 acres)—Ben White Business Park, South Industrial Drive/Business Center Drive, Austin; Site 11 (64.5 acres)—Walnut Business Park, US 290/US 183, Austin; Site 12 (100 acres)—Harris Branch, Harris Branch Parkway/Parmer Lane, Austin; Site 13 (15 acres)—Hill Partners w/n Global Business Park, Rutherford Lane/Cameron Road, Austin; Site 14 (91 acres)—Corridor Park I (Wayne Dresser), Jarrett Way, Round Rock; Site 15 (108.5 acres)—Vista Business Park/Bratton, Wells Port Drive/Grand Avenue Parkway, Round Rock; Site 16 (72.6 acres)—North Park, Grand Avenue Parkway/IH 35, Round Rock; Site 17 (40 acres)—Harvard, Glenn Drive, Round Rock; Site 18 (574 acres)—Parmer Lane, E. Parmer Lane/McCallen Pass, Round Rock; Site 19 (217.9 acres)—Tech Ridge, McCallen Pass/Howard Lane, Round Rock; Site 20 (58.5 acres)—Wells Branch Industrial Park, Howard Lane/McNiel-Meriltown Road, Round Rock; Site 21 (45.5 acres)—Metric Center, Metric Boulevard, Round Rock; Site 22 (38.5 acres)—Crystal Park, E. Old Settlers Boulevard, Round Rock; Site 23 (116.3 acres)—Westinghouse, Westinghouse Drive/IH 35, Round Rock; and, Site 24 (30 acres)—Coop Smith & Park Central, County Road 116/111, Round Rock.

For further information, contact Camille Evans at Camille.Evans@trade.gov or (202) 482-2350.

Dated: November 22, 2011.
Andrew McGilvray,
Executive Secretary.

[FR Doc. 2011-30758 Filed 11-28-11; 8:45 am]

BILLING CODE P